ENVIRONMENTAL PROTECTION AGENCY

[EPA-HQ-OW-2008-0719; FRL-8774-01-OW]

Proposed Information Collection Request; Comment Request; National Pollutant Discharge Elimination System Program (Renewal)

AGENCY: Environmental Protection Agency (EPA).

ACTION: Notice.

SUMMARY: The Environmental Protection Agency (EPA) is planning to submit the “Information Collection Request (ICR) Supporting Statement for The National Pollutant Discharge Elimination System Program (Renewal)” (EPA ICR No. 0229.25, OMB Control No. 2040-0004) to the Office of Management and Budget (OMB) for review and approval in accordance with the Paperwork Reduction Act. Before doing so, EPA is soliciting public comments on specific aspects of the proposed information collection as described below. This is a proposed extension of the ICR, which is currently approved through March 31, 2022. An Agency may not conduct or sponsor, and a person is not required to, respond to a collection of information unless it displays a currently valid OMB control number.

DATES: Comments must be submitted on or before September 27, 2021.

ADDRESSES: Submit your comments, referencing Docket ID No. EPA-HQ-OW-2008-0719 online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Joshua Baehr, National Program Branch, Water Permits Division, OWM Mail Code: 4203M, Environmental Protection Agency, 1201 Constitution Ave. NW, Washington, DC 20460; telephone number: (202) 564-2277; email address: Baehr.Joshua@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act (PRA), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This consolidated Information Collection Request (ICR) renews the National Pollutant Discharge Elimination System (NPDES) Program ICR. It calculates the information collection burden and costs associated with the NPDES program, identifies the types of activities regulated under the NPDES program, describes the roles and responsibilities of state governments and the Agency, and presents the program areas that address the various types of regulated activities. This ICR renewal (Office of Management and Budget (OMB) control no. 2040-0004, EPA ICR no. 0229.24, expiration date 03/31/2022) consolidates the information collection burden and costs associated with activities previously reported in 18 of the NPDES program or NPDES-related ICRs. This renewal documents the addition of the burden and costs for the four existing NPDES ICRs listed below. Once this renewal ICR is approved, the following ICRs will be discontinued (each originally would have been effective for three years).

• Public Notification Requirements for Combined Sewer Overflows (CSOs) in the Great Lakes Basin (OMB control no. 2040-0293, EPA ICR 2562.03, expiration date 04/30/2024)

• Effluent Limitation Guidelines and Standards for the Dental Category (OMB control no. 2040-0287, EPA ICR no. 2514.03, expiration 03/31/2024)

• 2020 National Pollutant Discharge Elimination System Multi-Sector General Permit (MSGP) for Industrial Stormwater Discharges (OMB control no. 2040-0300, EPA ICR no. 2612.02, expiration 03/31/2024)

• NPDES Electronic Reporting Rule—Phase 2 Extension (OMB Control No.: 2020-0037, EPA ICR No. 2617.02, expiration 12/31/2023)

The Clean Water Act (CWA) provides that NPDES permits are required for the discharge of pollutants to waters of the United States. The CWA requires EPA to develop and implement the NPDES permit program. CWA section 402(b) allows states to acquire authority to administer the NPDES program, enabling them to issue NPDES permits for discharges within the state. At present, 47 states and the U.S. Virgin Islands are authorized to administer the NPDES permit program. In states that do not have authority for these programs, the Agency administers the program and issues NPDES permits. Because some permit applications are processed by states and some by EPA, this ICR calculates government burden and cost for both authorized states and EPA. See Appendix F.1 for a copy of the authorizing regulation.

Form Numbers: EPA Form l3510-1; EPA Form 3510-2A; EPA Form 3510-2B; EPA Form 3510-2C; EPA Form 3510-2D; EPA Form 3510-2E; EPA Form 3510-2F; EPA Form 3510-2S.

Respondents/affected entities: Any point source discharger of pollutants, including but not limited to publicly owned and privately owned treatment works (POTWs and PrOTWs), industrial dischargers to POTWs and PrOTWs, industrial and commercial dischargers to water of the United States, sewage sludge management and disposal operations, large vessels, dischargers of stormwater, construction sites, municipalities, pesticide applicators, local and state governments.

Respondent's obligation to respond: Sections 301, 302, 304, 306, 307, 308, 316(b), 401, 402, 403, 405, and 510 of the CWA; the 1987 Water Quality Act (WQA) revisions to CWA section 402(p); 40 CFR parts 122, 123, 124, and 125 (and parts 501 and 503 for Biosolids); and the Great Lakes Critical Programs Act (CPA).

Estimated number of respondents: 829,419 (total). (Includes 637 States/Tribes/Territories.)

Frequency of response: The frequency of response varies depending on the specific response activity and can range from ongoing and monthly to once every five years.

Total estimated burden: 31,147,981 hours (per year). Burden is defined at 5 CFR 1320.03(b).

Total estimated cost: $1,732,564,878 (per year), includes $22,999,181 annualized capital or operation and maintenance costs (O&M).

Changes in Estimates: The current OMB-approved burden for the existing NPDES ICR (OMB control no. 2040-0004, EPA ICR no. 0229.24) is 28,221,350 hours. The current combined OMB-approved burden for the existing NPDES ICR and the four ICRs being consolidated into this ICR is 28,661,318 hours. The combined burden requested in this ICR renewal is 31,147,981 hours. Overall, the burden requested in this ICR is 2,486,663 hours (9 percent) more than the combined previously approved burdens of the component ICRs. The majority of this burden hour increase occurred as a result of an increase in EPA's estimates of permittee respondents. The increases in EPA's estimates of the number of permittee respondents is largely attributed to improvements in the current NPDES Integrated Compliance Information System (ICIS-NPDES) database, implementation of the Electronic Reporting Rule Phase 1, and refined estimates. Other significant changes in estimates of burden hours are the result of the following adjustments:

• This ICR eliminates the initial permit application and compliance activities for existing Cooling Water Intake Structure (CWIS) facilities as these activities have been completed by all existing CWIS facilities, resulting in a decrease in estimated burden hours for CWIS facilities.

• The collection burden associated with compliance with and administration of small vessels general permit (sVGP) has been removed. Eliminating the sVGP also decreased the number of vessel respondents significantly.

• The estimated number of respondents in some of the categories (shown in Appendix D of the ICR Supporting Statement) both increased and decreased per the current NPDES Integrated Compliance Information System (ICIS-NPDES) database and based on refined EPA estimates.

• This ICR accounts for adjustments to inflation to September 2021 dollars that updated the presumed capital and O&M cost burden.

• The burden associated with Electronic Reporting Rule Phase I implementation activities has been removed. This includes the burden associated with Discharge Monitoring Report (DMR) mailing by permittees, and all state and federal DMR processing previously included in the ICR.

Dated: July 22, 2021.
Andrew D. Sawyers,
Director, Office of Wastewater Management.

[FR Doc. 2021-16154 Filed 7-28-21; 8:45 am]

BILLING CODE 6560-50-P